DEPARTMENT OF COMMERCE

Bureau of Industry and Security

15 CFR Parts 742 and 774

[Docket No. 241004-0263]

RIN 0694-AJ85

Export Administration Regulations: Removal of License Requirements for Certain Spacecraft and Related Items for Australia, Canada, and the United Kingdom

AGENCY: Bureau of Industry and Security, Department of Commerce.

ACTION: Final rule.

SUMMARY: In this final rule, the Bureau of Industry and Security (BIS) amends the Export Administration Regulations (EAR) by removing controls for certain spacecraft and related items for exports and reexports to Australia, Canada, and the United Kingdom. These spacecraft and related items involve remote sensing or space-based logistics, assembly, or servicing. Taking into account the close relations with these three allied countries, including in space collaboration, as well as their inclusion in the National Technology and Industrial Base (NTIB), this final rule removes the license requirement for these countries for these spacecraft and related items.

DATES: This rule is effective October 23, 2024.

FOR FURTHER INFORMATION CONTACT: For technical questions, contact Joseph A. Cristofaro, Director, Sensors, Aerospace and Marine Division, Office of National Security Controls, Bureau of Industry and Security, U.S. Department of Commerce, at (202)-482-2440 or by email: Joseph.Cristofaro@bis.doc.gov.

For general questions, contact Regulatory Policy Division, Office of Exporter Services, Bureau of Industry and Security, U.S. Department of Commerce at 202-482-2440 or by email: RPD2@bis.doc.gov.

SUPPLEMENTARY INFORMATION:

I. Background

A. National Space Council Direction To Review Space Export Controls

On December 20, 2023, the National Space Council convened to discuss U.S. leadership in space. The Department of State and the Department of Commerce (Commerce) were subsequently tasked to “conduct a review of space export controls to enable a globally competitive U.S. space industrial base while protecting our national security and foreign policy interests” (see The White House FACT SHEET: Strengthening U.S. International Space Partnerships released on December 20, 2023). The changes being made in the final rule will better enable a globally competitive U.S. space industrial base while protecting our national security and foreign policy interests for exports and reexports to Australia, Canada, and the United Kingdom.

B. Commerce Response to the National Space Council Directed Review of Space Export Controls

This final rule is part of Commerce's regulatory response to this direction from the National Space Council to review relevant export controls and processes to better enable a globally competitive U.S. space industrial base while protecting our national security and foreign policy interests. This final rule makes important changes to EAR spacecraft and related items controls to better rationalize the controls and facilitate collaboration with three close allies of the United States and participants in the NTIB (10 U.S.C. 4801(1)), namely Australia, Canada, and the United Kingdom. Specifically, the changes in this rule will better enable a globally competitive U.S. space industrial base while protecting our national security and foreign policy interests by facilitating license-free trade in certain remote sensing and space-based logistics, assembly, and servicing spacecraft and technology with these close allies.

This final rule removes Australia, Canada, and the United Kingdom from the worldwide license requirement for such items and makes conforming changes to Export Control Classification Numbers (ECCNs) 9A515 and 9E515. In so doing, this final rule builds upon an interim final rule published on April 19, 2024 (89 FR 28594), which removed certain license requirements for Australia and the United Kingdom, and more closely aligned treatment of those countries with that of Canada, by streamlining space commerce with all three nations. This final rule represents just one line of effort in Commerce's response to the National Space Council direction to review space export controls, including this final rule being published concurrently with a Commerce interim final rule, “Export Administration Regulations: Revisions to Space-Related Export Controls” (RIN 0694-AJ87) and a Commerce proposed rule “Export Administration Regulations: Revisions to Space-Related Export Controls, Including Addition of License Exception Commercial Space Activities (CSA)” (RIN 0694-AH66) that build on advanced notices of proposed rulemaking published on March 8, 2019 (84 FR 8485 and 84 FR 8486).

II. Changes to the EAR

A. Removing Australia, Canada, and the United Kingdom, From a Worldwide License Requirement for Certain Spacecraft and Related Items

In 15 CFR 742.6 (Regional stability), this final rule revises paragraph (a)(9) (Special RS Column 1 license requirement applicable to certain spacecraft and related items), which prior to this final rule imposed a worldwide license requirement for spacecraft and related items classified under ECCN 9A515.a.1, a.2, a.3, a.4, .g, and ECCN 9E515.f. These spacecraft and related items involve remote sensing or space-based logistics, assembly, or servicing, and so prior to this final rule were subject to a worldwide license requirement, including for exports and reexports to Australia, Canada, and the United Kingdom. However, taking into account the close relations with the U.S. and these three allied countries, including in space collaboration as well as with the U.S. defense industrial base, as demonstrated by their inclusion in the NTIB, this final rule removes the license requirement for such items when destined to these countries. The removal of such license requirements for Australia, Canada, and the United Kingdom aligns the EAR's requirements with interagency licensing practice, as BIS has not denied a license application for such items to these three allied countries in the past five years.

BIS estimates the removal of this license requirement for Australia, Canada, and the United Kingdom under § 742.6(a)(9) will result in a reduction of 90 license applications being submitted to BIS annually.

B. Conforming Changes for Removal of License Requirement for Australia, Canada, and the United Kingdom

This final rule makes two conforming changes to other parts of the EAR to reflect the removal of the license requirement for Australia, Canada, and the United Kingdom under § 742.6(a)(9) for spacecraft and related items classified under ECCN 9A515.a.1, a.2, a.3, a.4, .g, and ECCN 9E515.f. Specifically, in supplement no. 1 to part 774—Commerce Control List, this final rule revises ECCNs 9A515 and 9E515. This final rule revises the License Requirement Note in ECCNs 9A515 and 9E515 to reflect that this final rule removes Australia, Canada, and the United Kingdom from the scope of the worldwide license requirement described in the License Requirement Note included in each of these respective ECCNs, as described further in section II.A and B.

The License Requirement Note in ECCN 9A515 specifies that the Commerce Country Chart in supplement no. 1 to part 738 is not used for determining license requirements for commodities classified in ECCN 9A515.a.1, a.2, a.3, a.4, and .g. The License Requirement Note in ECCN 9A515 includes a second sentence that directs exporters and reexporters to see § 742.6(a)(9), which specifies that such commodities are subject to a worldwide license requirement. This final rule revises the second sentence of the License Requirement Note in ECCN 9A515 to add the phrase “except to Australia, Canada, and the United Kingdom,” to specify that exports and reexports to these countries now excluded from the scope of this worldwide license requirement.

The License Requirement Note in ECCN 9E515 specifies that the Commerce Country Chart is not used for determining license requirements for “technology” classified ECCN 9E515.f. The License Requirement Note in ECCN 9E515 includes a second sentence that directs exporters and reexporters to see § 742.6(a)(9), which specifies that such “technology” is subject to a worldwide license requirement. This final rule revises the second sentence of the License Requirement Note in ECCN 9E515 to add the phrase “except to Australia, Canada, and the United Kingdom,” to specify that exports and reexports to these countries are now excluded from the scope of this worldwide license requirement.

Export Control Reform Act of 2018

On August 13, 2018, the President signed into law the John S. McCain National Defense Authorization Act for Fiscal Year 2019, which included the Export Control Reform Act of 2018 (ECRA) (codified, as amended, at 50 U.S.C. 4801-4852). ECRA provides the legal basis for BIS's principal authorities and serves as the authority under which BIS issues this rule. In particular, and as noted elsewhere, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, the establishment of a list of controlled items; the prohibition of unauthorized exports, reexports, and transfers (in-country); the requirement of licenses or other authorizations for exports, reexports, and transfers (in-country) of controlled items; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. Executive Orders 12866, 13563, and 14094 direct agencies to assess all costs and benefits of available regulatory alternatives and, if regulation is necessary, to select regulatory approaches that maximize net benefits (including potential economic, environmental, public health and safety effects, and distributive impacts and equity). Executive Order 13563 emphasizes the importance of quantifying both costs and benefits and of reducing costs, harmonizing rules, and promoting flexibility. This final rule has been designated as significant under Executive Order 12866.

2. Notwithstanding any other provision of law, no person is required to respond to, nor shall any person be subject to a penalty for failure to comply with, a collection of information subject to the requirements of the Paperwork Reduction Act of 1995 (PRA) (44 U.S.C. 3501 et seq.), unless that collection of information displays a currently valid Office of Management and Budget (OMB) Control Number. This rule involves the following OMB-approved collections of information subject to the PRA:

• 0694-0088, “Multi-Purpose Application,” which carries a burden hour estimate of 29.4 minutes for a manual or electronic submission;

• 0694-0096 “Five Year Records Retention Period,” which carries a burden hour estimate of less than 1 minute;

• 0694-0122, “Licensing Responsibilities and Enforcement;” and

• 0607-0152 “Automated Export System (AES) Program,” which carries a burden hour estimate of 3 minutes per electronic submission.

This rule changes the respondent burden for control number 0694-0088 by reducing the estimated number of submissions by 90, which is expected to reduce the current approved estimates, which will result in a reduction of 44 burden hours saved and cost savings to the public of $1,672 under this collection. The respondent burden under controls numbers 0694-0096 and 0607-0152 are not anticipated to change as a result of this final rule. Current information regarding all three collections of information—including all background materials—can be found at: https://www.reginfo.gov/public/do/PRAMain by using the search function to enter either the title of the collection or the OMB Control Number.

3. This rule does not contain policies with federalism implications as that term is defined in Executive Order 13132.

4. Pursuant to section 1762 of ECRA (50 U.S.C. 4821), this action is exempt from the Administrative Procedure Act (APA) (5 U.S.C. 553) requirements for notice of proposed rulemaking, opportunity for public participation, and delay in effective date. While section 1762 of ECRA provides sufficient authority for such an exemption, this action is also independently exempt from these APA requirements because it involves a military or foreign affairs function of the United States (5 U.S.C. 553(a)(1)).

5. Because a notice of proposed rulemaking and an opportunity for public comment are not required to be given for this rule by 5 U.S.C. 553, or by any other law, the analytical requirements of the Regulatory Flexibility Act (5 U.S.C. 601, et seq.) are not applicable. Accordingly, no regulatory flexibility analysis is required, and none has been prepared.

List of Subjects

15 CFR Part 742

Exports, Terrorism.

15 CFR Part 774

Exports, Reporting and recordkeeping requirements.

For the reasons stated in the preamble, parts 742 and 774 of the Export Administration Regulations (15 CFR parts 730 through 774) are amended as follows:

PART 742—CONTROL POLICY—CCL BASED CONTROLS

1. The authority citation for part 742 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23, 68 FR 26459, 3 CFR, 2004 Comp., p. 320; Notice of November 1, 2023, 88 FR 75475 (November 3, 2023).

2. Section 742.6 is amended by revising paragraph (a)(9) to read as follows:

§ 742.6 Regional stability.

(a) * * *

(9) Special RS Column 1 license requirement applicable to certain spacecraft and related items. A license is required for all destinations, except for Australia, Canada, and the United Kingdom, for spacecraft and related items classified under ECCN 9A515.a.1, a.2, a.3, a.4, .g, and ECCN 9E515.f.

* * * * *

PART 774—THE COMMERCE CONTROL LIST

3. The authority citation for part 774 continues to read as follows:

Authority: 50 U.S.C. 4801-4852; 50 U.S.C. 4601 et seq.; 50 U.S.C. 1701 et seq.; 10 U.S.C. 8720; 10 U.S.C. 8730(e); 22 U.S.C. 287c, 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228; E.O. 13222, 66 FR 44025, 3 CFR, 2001 Comp., p. 783.

4. Supplement no. 1 to part 774 is amended by revising ECCNs 9A515 and 9E515, to read as follows:

SUPPLEMENT NO. 1 TO PART 774—THE COMMERCE CONTROL LIST

* * * * *

9A515 “Spacecraft” and related commodities, as follows (see List of Items Controlled). License Requirements

Reason for Control: NS, RS, MT, AT

Control(s) | Country chart (see Supp. No. 1 to part 738)
NS applies to entire entry, except .e and .y | NS Column 1.
RS applies to entire entry, except .e and .y | RS Column 1.
RS applies to 9A515.e | RS Column 2.
RS applies to 9A515.y, except to Russia for use in, with, or for the International Space Station (ISS), including launch to the ISS | China, Russia or Venezuela (see § 742.6(a)(7)).
MT applies to microcircuits in 9A515.d and .e.2 when “usable in” “missiles” for protecting “missiles” against nuclear effects (e.g., Electromagnetic Pulse (EMP), X-rays, combined blast and thermal effects). MT also applies to 9A515.h when the total impulse capacity is equal to or greater than 8.41 × 10⁵ newton seconds | MT Column 1.
AT applies to entire entry | AT Column 1.

License Requirement Note: The Commerce Country Chart is not used for determining license requirements for commodities classified in ECCN 9A515.a.1, a.2, a.3, a.4, and .g. See § 742.6(a)(9), which specifies that such commodities are subject to a worldwide license requirement, except to Australia, Canada, and the United Kingdom.

List Based License Exceptions (See Part 740 for a Description of All License Exceptions)

LVS: $1,500

GBS: N/A

Special Conditions for STA

STA: (1) Paragraph (c)(1) of License Exception STA (§ 740.20(c)(1) of the EAR) may not be used for “spacecraft” in ECCNs 9A515.a.1, a.2, a.3, or a.4, “sub-orbital craft,” or items in 9A515.g, unless determined by BIS to be eligible for License Exception STA in accordance with § 740.20(g) (License Exception STA eligibility requests for certain 9x515 and “600 series” items). (2) License Exception STA may not be used if the “spacecraft” controlled in ECCN 9A515.a.1, a.2, a.3, or a.4 contains a separable or removable propulsion system enumerated in USML Category IV(d)(2) or USML Category XV(e)(12) and designated MT. (3) Paragraph (c)(2) of License Exception STA (§ 740.20(c)(2) of the EAR) may not be used for any item in ECCN 9A515.

List of Items Controlled

Related Controls: Spacecraft, launch vehicles and related articles that are enumerated in the USML, and technical data (including “software”) directly related thereto, and all services (including training) directly related to the integration of any satellite or spacecraft to a launch vehicle, including both planning and onsite support, or furnishing any assistance (including training) in the launch failure analysis or investigation for items in ECCN 9A515.a, are “subject to the ITAR.” All other “spacecraft,” as enumerated below and defined in § 772.1, are subject to the controls of this ECCN. See also ECCNs 3A001, 3A002, 3A991, 3A992, 6A002, 6A004, 6A008, and 6A998 for specific “space-qualified” items, 7A004 and 7A104 for star trackers, and 9A004 for the International Space Station (ISS), the James Webb Space Telescope (JWST), and “specially designed” “parts” and “components” therefor. See USML Category XI(c) for controls on certain “Monolithic Microwave Integrated Circuit” (“MMIC”) amplifiers. See ECCN 9A610.g for pressure suits used for high altitude aircraft.

Related Definitions: 'Microcircuit' means a device in which a number of passive or active elements are considered as indivisibly associated on or within a continuous structure to perform the function of a circuit.

Items: “Spacecraft” and other items described in ECCN 9A515 remain subject to the EAR even if exported, reexported, or transferred (in-country) with defense articles “subject to the ITAR” integrated into and included therein as integral parts of the item. In all other cases, such defense articles are subject to the ITAR. For example, a 9A515.a “spacecraft” remains “subject to the EAR” even when it is exported, reexported, or transferred (in-country) with a “hosted payload” described in USML Category XV(e)(17) incorporated therein. In all other cases, a “hosted payload” performing a function described in USML Category XV(a) always remains a USML item. The removal of the defense article subject to the ITAR from the spacecraft is a retransfer under the ITAR and would require an ITAR authorization, regardless of the CCL authorization the spacecraft is exported under. Additionally, transfer of technical data regarding the defense article subject to the ITAR integrated into the spacecraft would require an ITAR authorization.

a. “Spacecraft,” including satellites, and space vehicles and “sub-orbital craft,” whether designated developmental, experimental, research or scientific, not enumerated in USML Category XV or described in ECCN 9A004.u or .w, that:

a.1. Have electro-optical remote sensing capabilities and having a clear aperture greater than 0.35 meters, but less than or equal to 0.50 meters;

a.2. Have remote sensing capabilities beyond NIR (i.e., SWIR, MWIR, or LWIR);

a.3. Have radar remote sensing capabilities (e.g., AESA, SAR, or ISAR) having a center frequency equal to or greater than 1.0 GHz, but less than 10.0 GHz and having a bandwidth equal to or greater than 100 MHz, but less than 300 MHz;

a.4. Provide space-based logistics, assembly, or servicing of another “spacecraft”; or

a.5. Are not described in ECCN 9A515.a.1, a.2, a.3 or a.4.

Note: ECCN 9A515.a includes commercial communications satellites, remote sensing satellites, planetary rovers, planetary and interplanetary probes, in-space habitats, and “sub-orbital craft,” not identified in ECCN 9A004 or USML Category XV(a).

b. Ground control systems and training simulators “specially designed” for telemetry, tracking, and control of the “spacecraft” controlled in paragraphs 9A004.u or 9A515.a.

c. [Reserved]

d. Microelectronic circuits (e.g., integrated circuits, microcircuits, or MOSFETs) and discrete electronic components rated, certified, or otherwise specified or described as meeting or exceeding all the following characteristics and that are “specially designed” for defense articles, “600 series” items, or items controlled by ECCNs 9A004.v or 9A515:

d.1. A total dose of 5 × 10⁵ Rads (Si) (5 × 10³ Gy (Si));

d.2. A dose rate upset threshold of 5 × 10⁸ Rads (Si)/sec (5 × 10⁶ Gy (Si)/sec);

d.3. A neutron dose of 1 × 10¹⁴ n/cm² (1 MeV equivalent);

d.4. An uncorrected single event upset sensitivity of 1 × 10⁻¹⁰ errors/bit/day or less, for the CRÈME-MC geosynchronous orbit, Solar Minimum Environment for heavy ion flux; and

d.5. An uncorrected single event upset sensitivity of 1 × 10⁻¹⁰ errors/part or less for a fluence of 1 × 10⁷ protons/cm² for proton energy greater than 50 MeV.

e. Microelectronic circuits (e.g., integrated circuits, microcircuits, or MOSFETs) and discrete electronic components that are rated, certified, or otherwise specified or described as meeting or exceeding the characteristics in either paragraph e.1 or e.2, AND “specially designed” for defense articles controlled by USML Category XV or items controlled by ECCNs 9A004.u or 9A515:

e.1. A total dose ≥1 × 10⁵ Rads (Si) (1 × 10³ Gy(Si)) and <5 × 10⁵ Rads (Si) (5 × 10³ Gy(Si)); and a single event effect (SEE) (i.e., single event latchup (SEL), single event burnout (SEB), or single event gate rupture (SEGR)) immunity to a linear energy transfer (LET) ≥80 MeV-cm²/mg; or

e.2. A total dose ≥5 × 10⁵ Rads (Si) (5 × 10³ Gy (Si)) and not described in 9A515.d.

Note 1 to 9A515.d and .e: Application specific integrated circuits (ASICs), integrated circuits developed and produced for a specific application or function, specifically designed or modified for defense articles and not in normal commercial use are controlled by Category XI(c) of the USML regardless of characteristics.

Note 2 to 9A515.d and .e: See 3A001.a and .z for controls on radiation-hardened microelectronic circuits “subject to the EAR” that are not controlled by 9A515.d or .e.

f. Pressure suits (i.e., space suits) capable of operating at altitudes 55,000 feet above sea level.

g. Remote sensing components “specially designed” for “spacecraft” described in ECCNs 9A515.a.1 through a.4 as follows:

g.1. Space-qualified optics (i.e., lens, mirror, membrane having active properties (e.g., adaptive, deformable)) with the largest lateral clear aperture dimension equal to or less than 0.35 meters; or with the largest clear aperture dimension greater than 0.35 meters but less than or equal to 0.50 meters;

g.2. Optical bench assemblies “specially designed” for ECCN 9A515.a.1, a.2, a.3, or a.4 “spacecraft;” or

g.3. Primary, secondary, or hosted payloads that perform a function of ECCN 9A515.a.1, a.2, a.3, or a.4 “spacecraft.”

h. Spacecraft thrusters using bi-propellants or mono-propellants that provide thrust equal to or less than 150 lbf (i.e., 667.23 N) vacuum thrust.

i. through w. [RESERVED]

x. “Parts,” “components,” “accessories” and “attachments” that are “specially designed” for defense articles controlled by USML Category XV or items controlled by 9A515, and that are NOT:

x.1. Enumerated or controlled in the USML or elsewhere within ECCNs 9A515 or 9A004;

x.2. Microelectronic circuits and discrete electronic components;

x.3. Described in ECCNs 7A004 or 7A104;

x.4. Described in an ECCN containing “space-qualified” as a control criterion (i.e., 3A001.b.1, .e.4 or .z, 3A002.g.1, 3A991.o, 3A992.b.3, 6A002.a.1, .b.2, .d.1, 6A004.c and .d, 6A008.j.1, 6A998.b, or 7A003.d.2);

x.5. Microwave solid state amplifiers and microwave assemblies (refer to ECCN 3A001.b.4 and .z for controls on these items);

x.6. Travelling wave tube amplifiers (refer to ECCN 3A001.b.8 and .z for controls on these items); or

x.7. Elsewhere specified in ECCN 9A515.y.

Note to 9A515.x: “Parts,” “components,” “accessories,” and “attachments” specified in USML subcategory XV(e) or enumerated in other USML categories are subject to the controls of that paragraph or category.

y. Items that would otherwise be within the scope of ECCN 9A515.x but that have been identified in an interagency-cleared commodity classification (CCATS) pursuant to § 748.3(e) as warranting control in 9A515.y.

y.1. Discrete electronic components not specified in 9A515.e;

y.2. Space grade or for spacecraft applications thermistors;

y.3. Space grade or for spacecraft applications RF microwave bandpass ceramic filters (Dielectric Resonator Bandpass Filters);

y.4. Space grade or for spacecraft applications hall effect sensors;

y.5. Space grade or for spacecraft applications subminiature (SMA and SMP) plugs and connectors, TNC plugs and cable and connector assemblies with SMA plugs and connectors; and

y.6. Space grade or for spacecraft applications flight cable assemblies.

* * * * *

9E515 “Technology” “required” for the “development,” “production,” operation, installation, repair, overhaul, or refurbishing of “spacecraft” and related commodities, as follows (see List of Items Controlled).

License Requirements

Reason for Control: NS, MT, RS, AT

Control(s) | Country chart (see Supp. No. 1 to part 738)
NS applies to entire entry except 9E515.y | NS Column 1.
MT applies to technology for items in 9A515.d, .e.2, .h, and 9B515.a controlled for MT reasons | MT Column 1.
RS applies to entire entry except 9E515.y | RS Column 1.
RS applies to 9E515.y, except to Russia for use in, with, or for the International Space Station (ISS), including launch to the ISS | China, Russia, or Venezuela (see § 742.6(a)(7)).
AT applies to entire entry | AT Column 1.

License Requirement Note: The Commerce Country Chart is not used for determining license requirements for “technology” classified ECCN 9E515.f. See § 742.6(a)(9), which specifies that such “technology” is subject to a worldwide license requirement, except to Australia, Canada, and the United Kingdom.

List Based License Exceptions (See Part 740 for a Description of All License Exceptions)

TSR: N/A

Special Conditions for STA

STA: (1) Paragraph (c)(1) of License Exception STA (§ 740.20(c)(1) of the EAR) may not be used for ECCN 9E515.b, .d, .e, or .f unless determined by BIS to be eligible for License Exception STA in accordance with § 740.20(g) (License Exception STA eligibility requests for certain 9x515 and “600 series” items). (2) Paragraph (c)(2) of License Exception STA (§ 740.20(c)(2) of the EAR) may not be used for any “technology” in ECCN 9E515.

List of Items Controlled

Related Controls: Technical data directly related to articles enumerated in USML Category XV are subject to the control of USML paragraph XV(f). See also ECCNs 3E001, 3E003, 6E001, and 6E002 for specific “space-qualified” items. See ECCNs 9E001 and 9E002 for technology for the International Space Station, the James Webb Space Telescope (JWST) and “parts,” “components,” “accessories,” and “attachments” “specially designed” therefor. See USML category XV(f) for controls on technical data and defense services related to launch vehicle integration.

Related Definitions: N/A

Items:

a. “Technology” “required” for the “development,” “production,” installation, repair (including on-orbit anomaly resolution and analysis beyond established procedures), overhaul, or refurbishing of commodities controlled by ECCN 9A515 (except 9A515.a.1, a.2, a.3, a.4, .b, .d, .e, or .g), ECCN 9B515, or “software” controlled by ECCN 9D515.a.

b. “Technology” “required” for the “development,” “production,” failure analysis or anomaly resolution of software controlled by ECCN 9D515.b.

c. [Reserved]

d. “Technology” “required” for the “development,” “production,” operation, failure analysis or anomaly resolution of commodities controlled by ECCN 9A515.d.

e. “Technology” “required” for the “development,” “production,” failure analysis or anomaly resolution of commodities controlled by ECCN 9A515.e.

f. “Technology” “required” for the “development,” “production,” installation, repair (including on-orbit anomaly resolution and analysis beyond established procedures), overhaul, or refurbishing of commodities controlled by ECCN 9A515.a.1, a.2, a.3, a.4, or .g.

g. through x. [Reserved]

y. Specific “technology” “required” for the “production,” “development,” operation, installation, maintenance, repair, overhaul, or refurbishing of commodities or software enumerated in ECCN 9A515.y or 9D515.y.

Note 1: [Reserved]

Note 2: Activities and technology/technical data directly related to or required for the spaceflight (e.g., sub-orbital, orbital, lunar, interplanetary, or otherwise beyond Earth orbit) passenger or participant experience, regardless of whether the passenger or participant experience is for space tourism, scientific or commercial research, commercial manufacturing/production activities, educational, media, or commercial transportation purposes, are not subject to the ITAR or the EAR. Such activities and technology/technical data include those directly related to or required for:

(i) “Spacecraft” access, ingress, and egress, including the operation of all “spacecraft” doors, hatches, and airlocks;

(ii) Physiological training (e.g., human-rated centrifuge training or parabolic flights, pressure suit or spacesuit training/operation);

(iii) Medical evaluation or assessment of the spaceflight passenger or participant;

(iv) Training for and operation by the passenger or participant of health and safety related hardware (e.g., seating, environmental control and life support, hygiene facilities, food preparation, exercise equipment, fire suppression, communications equipment, safety-related clothing or headgear) or emergency procedures;

(v) Viewing of the interior and exterior of the spacecraft or terrestrial mock-ups;

(vi) Observing “spacecraft” operations (e.g., pre-flight checks, landing, in-flight status);

(vii) Training in “spacecraft” or terrestrial mock-ups for connecting to or operating passenger or participant equipment used for purposes other than operating the “spacecraft”; or

(viii) Donning, wearing or utilizing the passenger's or participant's flight suit, pressure suit or spacesuit, and personal equipment.

* * * * *

Thea D. Rozman Kendler,
Assistant Secretary for Export Administration.

[FR Doc. 2024-23932 Filed 10-17-24; 4:15 pm]

BILLING CODE 3510-33-P